DEPARTMENT OF THE INTERIOR

National Park Service

[NPS-WASO-NAGPRA-23398; PPWOCRADN0-PCU00RP14.R50000]

Notice of Inventory Completion: Texas State University, Center for Archaeological Studies and Department of Anthropology, San Marcos, TX

AGENCY: National Park Service, Interior.

ACTION: Notice.

SUMMARY: The Texas State University, Center for Archaeological Studies and Department of Anthropology, has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Texas State University, Center for Archaeological Studies and Department of Anthropology. If no additional requestors come forward, the human remains may be reinterred.

DATES: Representatives of any Indian Tribe or Native Hawaiian organization not identified in this notice that wish to request transfer of control of these human remains should submit a written request with information in support of the request to the Texas State University, Center for Archaeological Studies and Department of Anthropology, at the address in this notice by July 31, 2017.

ADDRESSES: Todd M. Ahlman, Center for Archaeological Studies, Texas State University, 601 University Drive, San Marcos, TX 78666, telephone (512) 245-2724, email toddahlman@txstate.edu.

SUPPLEMENTARY INFORMATION: Notice is here given in accordance with the Native American Graves Protection and Repatriation Act (NAGPRA), 25 U.S.C. 3003, of the completion of an inventory of human remains under the control of the Texas State University, Department of Anthropology, San Marcos, TX. The human remains were removed from Hays County, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Texas State University, Center for Archaeological Studies and Department of Anthropology, professional staff in consultation with representatives of the Absentee-Shawnee Tribe of Indians of Oklahoma; Alabama-Coushatta Tribe of Texas (previously listed as the Alabama-Coushatta Tribes of Texas); Apache Tribe of Oklahoma; Caddo Nation of Oklahoma; Cherokee Nation; Comanche Nation, Oklahoma; Coushatta Tribe of Louisiana; Delaware Nation, Oklahoma; Iowa Tribe of Oklahoma; Jicarilla Apache Nation, New Mexico; Kialegee Tribal Town; Kickapoo Traditional Tribe of Texas; Kickapoo Tribe of Oklahoma; Kiowa Indian Tribe of Oklahoma; Mescalero Apache Tribe of the Mescalero Reservation, New Mexico; Poarch Band of Creeks (previously listed as the Poarch Band of Creek Indians of Alabama); The Choctaw Nation of Oklahoma; The Muscogee (Creek) Nation; The Osage Nation (previously listed as the Osage Tribe); The Quapaw Tribe of Indians; The Seminole Nation of Oklahoma; Thlopthlocco Tribal Town; Tonkawa Tribe of Indians of Oklahoma; Tunica-Biloxi Indian Tribe; United Keetoowah Band of Cherokee Indians in Oklahoma; Wichita and Affiliated Tribes (Wichita, Keechi, Waco & Tawakonie), Oklahoma; and Ysleta del Sur Pueblo (previously listed as the Ysleta Del Sur Pueblo of Texas) (hereafter listed as “The Consulted Tribes”). Texas State University, Center for Archaeological Studies and Department of Anthropology, professional staff also consulted with the Miakan-Garza Band of the Coahuiltecan people, a non-federally recognized Indian group.

History and Description of the Remains

In February of 1983, human remains representing, at minimum, two individuals were removed from site 41HY161 in Hays County, TX. The human remains were initially discovered in the fall of 1982 during construction and maintenance of the Texas State University campus. Osteological analysis was conducted by a biological anthropologist from the Southwest Texas State University Department of Sociology and Anthropology (now Texas State University Department of Anthropology), who determined by the context and appearance of the remains that they are most likely of prehistoric Native American ancestry. The human remains from the first burial were very fragmentary. Age and sex could not be determined. The human remains from the second burial were determined to be those of an adult female. No known individuals were identified. No associated funerary objects are present.

In February of 2008 and April of 2009, human remains representing, at minimum, four individuals were removed from site 40HY163 in Hays County, TX. The human remains were discovered during a construction project for expansion of the City of San Marcos' Wonder World Drive and later excavated by Texas State University's Center for Archaeological Studies. Osteological analysis was conducted Kyra Stull, M.A. and Dr. Michelle Hamilton of the Department of Anthropology at Texas State University, who determined them to be of prehistoric Native American ancestry. The human remains consist of one adult male, two adult females, and one possible adult female. No known individuals were identified. No associated funerary objects are present.

Pursuant to 43 CFR 10.16, the Secretary of the Interior may recommend that culturally unidentifiable human remains with no “tribal land” or “aboriginal land” provenience be reinterred under State or other law. In January 2017, the Texas State University, Center for Archaeological Studies and Department of Anthropology, requested that the Secretary, through the Native American Graves Protection and Repatriation Review Committee, recommend the proposed re-interment of the culturally unidentifiable Native American human remains in this notice, according to State or other law. The Review Committee, acting pursuant to its responsibility under 25 U.S.C. 3006(c)(5), considered the request at its March 2017 meeting and recommended to the Secretary that the proposed re-interment proceed. An April 2017 letter on behalf of the Secretary of Interior from the National Park Service Associate Director for Cultural Resources, Partnerships, and Science transmitted the Secretary's independent review and concurrence with the Review Committee that:

• None of The Consulted Tribes objected to the proposed re-interment, and

• Texas State University, Center for Archaeological Studies and Department of Anthropology, may proceed with the proposed re-interment of the culturally unidentifiable human remains.

Re-interment is contingent on the publication of a Notice of Inventory Completion in the Federal Register. This notice fulfills that requirement.

Determinations Made by the Texas State University, Center for Archaeological Studies and Department of Anthropology

Officials of the Texas State University, Center for Archaeological Studies and Department of Anthropology, have determined that:

• Pursuant to 25 U.S.C. 3001(9), the human remains described in this notice are Native American based on association with prehistoric artifacts and ancestry estimation.

• Pursuant to 25 U.S.C. 3001(9), the human remains described in this notice represent the physical remains of six individuals of Native American ancestry.

• Pursuant to 25 U.S.C. 3001(2), a relationship of shared group identity cannot be reasonably traced between the Native American human remains and any present-day Indian Tribe.

• Pursuant to 43 CFR 10.11(c)(1), a “tribal land” or “aboriginal land” provenience cannot be ascertained.

• Pursuant to 43 CFR 10.10(g)(2)(ii) and 43 CFR 10.16, the human remains may be reinterred according to the law of the State of Texas and the City of San Marcos, Texas.

Additional Requestors and Disposition

Representatives of any Indian Tribe or Native Hawaiian organization not identified in this notice that wish to request transfer of control of these human remains should submit a written request with information in support of the request to Todd M. Ahlman, Center for Archaeological Studies, Texas State University, 601 University Drive, San Marcos, TX 78666, telephone (512) 245-2724, email toddahlman@txstate.edu, by July 31, 2017. After that date, if no additional requestors have come forward, the human remains may be reinterred.

The Texas State University, Center for Archaeological Studies and Department of Anthropology, is responsible for notifying The Consulted Tribes that this notice has been published.

Dated: May 12, 2017.
Melanie O'Brien,
Manager, National NAGPRA Program.

[FR Doc. 2017-13741 Filed 6-29-17; 8:45 am]

BILLING CODE 4312-52-P